FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 13, 2011.

A. Federal Reserve Bank of New York (Ivan Hurwitz, Vice President) 33 Liberty Street, New York, New York 10045-0001:

1. Oaktree Capital Group Holdings GP, LLC; Oaktree Capital Group Holdings, L.P.; Oaktree Capital Group, LLC; Oaktree AIF Holdings, Inc.; Oaktree Holdings, LLC; Oaktree Holdings, Inc.; OCM Holdings I, LLC; Oaktree Capital Management, L.P.; Oaktree AIF Investments, L.P.; Oaktree Capital I, L.P.; Oaktree Fund GP I, L.P.; Oaktree Fund GP III, L.P.; Oaktree Principal Fund V GP, Ltd.; Oaktree Fund GP AIF, LLC; Oaktree Principal Fund V GP, L.P.; Oaktree Fund GP, LLC; Oaktree Principal Fund V, L.P.; Oaktree Principal Fund V (Parallel), L.P.; Oaktree Fund AIF Series, L.P.—Series I; Oaktree Principal Fund V (Delaware), L.P.; Oaktree FF Investment Fund AIF (Delaware), L.P, all of Los Angeles, California; to gain control of First BanCorp, and thereby indirectly gain control of FirstBank Puerto Rico, both in San Juan, Puerto Rico.

B. Federal Reserve Bank of Minneapolis (Jacqueline G. King, Community Affairs Officer) 90 Hennepin Avenue, Minneapolis, Minnesota 55480-0291:

1. Paul K. Steen, Edina, Minnesota, and James R. Steen, Fargo, North Dakota; to each retain voting shares of Clinton Bancshares, Inc., and thereby indirectly retain control of Clinton State Bank, both in Clinton, Minnesota.

Board of Governors of the Federal Reserve System, August 24, 2011.
Robert deV. Frierson,
Deputy Secretary of the Board.

[FR Doc. 2011-22010 Filed 8-29-11; 8:45 am]

BILLING CODE 6210-01-P